DEPARTMENT OF ENERGY

Federal Energy Regulatory Commission

Combined Notice of Filings

Take notice that the Commission has received the following Natural Gas Pipeline Rate and Refund Report filings:

Filings Instituting Proceedings

Docket Numbers: PR16-25-000.

Applicants: Columbia Gas of Ohio, Inc.

Description: Tariff filing per 284.123(b)(1)/.: COH 2-16-2016 SOC to be effective 2/1/2016; Filing Type: 980.

Filed Date: 2/16/16.

Accession Number: 201602165220.

Comments/Protests Due: 5 p.m. ET 3/8/16.

Docket Number: PR16-17-001.

Applicants: Acadian Gas Pipeline System.

Description: Tariff filing per 284.123(b), (e), (g): Amended SOC Update per FERC Order 809 to be effective 4/1/2016; Filing Type: 1270.

Filed Date: 2/17/2016.

Accession Number: 201602175169.

Comments Due: 5 p.m. ET 3/9/16.

284.123(g) Protests Due: 5 p.m. ET 3/28/16.

Docket Number: PR16-20-001.

Applicants: Enterprise Texas Pipeline LLC.

Description: Tariff filing per 284.123(b), (e), (g): Amended SOC Update per FERC Order 809 to be effective 4/1/2016; Filing Type: 1270.

Filed Date: 2/18/2016.

Accession Number: 201602185053.

Comments Due: 5 p.m. ET 3/10/16.

284.123(g) Protests Due: 5 p.m. ET 3/29/16.

Docket Number: PR16-23-001.

Applicants: Enterprise Intrastate LLC.

Description: Tariff filing per 284.123(b), (e), (g): Amended SOC Update per FERC Order 809 to be effective 4/1/2016; Filing Type: 1270.

Filed Date: 2/18/2016.

Accession Number: 201602185045.

Comments Due: 5 p.m. ET 3/10/16.

284.123(g) Protests Due: 5 p.m. ET 3/29/16.

Docket Number: PR16-23-002.

Applicants: Enterprise Intrastate LLC.

Description: Tariff filing per 284.123(b), (e), (g): Amended Section 18.5 & 18.6 of SOC Update per FERC Order 809 to be effective 4/1/2016; Filing Type: 1270.

Filed Date: 2/18/2016.

Accession Number: 201602185192.

Comments Due: 5 p.m. ET 3/10/16.

284.123(g) Protests Due: 5 p.m. ET 3/29/16.

Docket Numbers: RP16-614-000.

Applicants: Midcontinent Express Pipeline LLC.

Description: Annual Report of Operational Purchases and Sales of Midcontinent Express Pipeline LLC under RP16-614.

Filed Date: 2/18/16.

Accession Number: 20160218-5075.

Comments Due: 5 p.m. ET 3/1/16.

Docket Numbers: RP16-615-000.

Applicants: WPX Energy Holdings, LLC,Terra Energy Partners LLC,WPX Energy Marketing, LLC,WPX Energy Rocky Mountain, LLC.

Description: Joint Petition of WPX Energy Holdings, LLC, WPX Energy Marketing, LLC, WPX Energy Rocky Mountain, LLC and Terra Energy Partners LLC for Temporary Waiver of Capacity Release and Certain Other Regulations and Policies and Related Tariff Provisions.

Filed Date: 2/18/16.

Accession Number: 20160218-5156.

Comments Due: 5 p.m. ET 2/29/16.

Docket Numbers: RP16-616-000.

Applicants: Southern Natural Gas Company, L.L.C.

Description: § 4(d) Rate Filing: Fuel Retention Rates—Spring 2016 to be effective 4/1/2016.

Filed Date: 2/19/16.

Accession Number: 20160219-5000.

Comments Due: 5 p.m. ET 3/2/16.

Docket Numbers: RP16-617-000.

Applicants: Southwest Gas Storage Company.

Description: § 4(d) Rate Filing: Housekeeping and Contracting Provisions to be effective 3/21/2016.

Filed Date: 2/19/16.

Accession Number: 20160219-5011.

Comments Due: 5 p.m. ET 3/2/16.

Docket Numbers: RP16-618-000.

Applicants: Algonquin Gas Transmission, LLC.

Description: § 4(d) Rate Filing: Bidding Requirements Waiver for State-Regulated Electric Reliability Programs to be effective 4/1/2016.

Filed Date: 2/19/16.

Accession Number: 20160219-5050.

Comments Due: 5 p.m. ET 3/2/16.

Docket Numbers: RP16-619-000.

Applicants: National Fuel Gas Supply Corporation.

Description: § 4(d) Rate Filing: Fuel Tracker (04/01/16) to be effective 4/1/2016.

Filed Date: 2/19/16.

Accession Number: 20160219-5161.

Comments Due: 5 p.m. ET 3/2/16.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

Filings in Existing Proceedings

Docket Numbers: RP16-234-000.

Applicants: El Paso Natural Gas Company, L.L.C.

Description: Report Filing: Refund Report in Docket Nos. RP16-234 and RP10-1398.

Filed Date: 2/18/16.

Accession Number: 20160218-5140.

Comments Due: 5 p.m. ET 3/1/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 22, 2016.
Nathaniel J. Davis, Sr.,
Deputy Secretary.

[FR Doc. 2016-04157 Filed 2-25-16; 8:45 am]

BILLING CODE 6717-01-P